FEDERAL EMERGENCY MANAGEMENT AGENCY

44 CFR Part 67

Final Flood Elevation Determinations

AGENCY: Federal Emergency Management Agency (FEMA).

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final BFEs for each community are available for inspection at the office of the Chief Executive Officer of each community. The respective addresses are listed in the table below.

FOR FURTHER INFORMATION CONTACT: Matthew B. Miller, P.E., Chief, Hazards Study Branch, Federal Insurance and Mitigation Administration, FEMA, 500 C Street SW., Washington, DC 20472, (202) 646-3461, or (e-mail) matt.miller@fema.gov.

SUPPLEMENTARY INFORMATION: FEMA makes the final determinations listed below of BFEs and modified BFEs for each community listed. The proposed BFEs and proposed modified BFEs were published in newspapers of local circulation and an opportunity for the community or individuals to appeal the proposed determinations to or through the community was provided for a period of 90 days. The proposed BFEs and proposed modified BFEs were also published in the Federal Register.

This final rule is issued in accordance with section 110 of the Flood Disaster Protection Act of 1973, 42 U.S.C. 4104, and 44 CFR part 67.

FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Administrator, Federal Insurance and Mitigation Administration certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This proposed rule meets the applicable standards of section 2(b)(2) of Executive Order 12778.

List of Subjects in 44 CFR Part 67

Administrative practice and procedure, Flood insurance, Reporting and recordkeeping requirements.

Accordingly, 44 CFR part 67 is amended to read as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD).
NEW MEXICO
Chaves County (Unincorporated Areas), (FEMA Docket No. B-7421)
Rio Hondo River:
At confluence with South Berrendo Creek | *3,507
Approximately 9,500 feet upstream of Roswell Relief Route | *3,704
Maps are available for inspection at the Chaves County Courthouse, Planning Department, 401 North Main Street, Roswell, New Mexico.
———
Roswell (City), Chaves County, (FEMA Docket No. B-7421)
Rio Hondo River:
Approximately 1,550 feet downstream from Atkinson Avenue | *3,544
Approximately 3,000 feet upstream of Sunset Avenue | *3,620
Maps are available for inspection at City Hall, Engineering Department, 401 North Main Street, Roswell, New Mexico.

Source of flooding and location | #Depth in feet above ground. *Elevation in feet (NGVD). | Communities Affected¹
OKLAHOMA
Oklahoma County and Incorporated Areas, (FEMA Docket No. #B-7404)
Biddy Creek:
Approximately 3,200 feet upstream of confluence with Deer Creek | *1,054
At Oklahoma-Canadian County Boundary | *1,103
Bloody Rush Creek:
Just upstream of Portland Avenue | *1,014
Just upstream of Rockwell Avenue | *1,096
Chisholm Creek:
At Oklahoma-Logan County Boundary | *1,016
At West Coffee Creek Road | *1,035
Approximately 150 feet upstream of West Coffee Creek Road | *1,037
At Hefner Road | *1,167
At Northwest Britton Road | *1,192
Coon Creek:
Approximately 50 feet upstream of Northeast 192nd Street | *919
Approximately 1,500 feet upstream of Triple XXX Road | *922
Just downstream of Northeast 206th Street | *929
Just upstream of Northeast 206th Street | *932
At confluence with Coon Creek | *965
Just downstream of Waterloo Road | *970
Coon Creek Tributary:
Approximately 70 feet upstream of Choctaw Road | *1,007
Crutcho Creek:
Approximately 2,000 feet upstream of North Midwest Boulevard | *1,149
Approximately 700 feet downstream of Northeast 36th Street | *1,158
Crutch Creek Tributary C:
Just downstream of Sooner Road | *1,217
Approximately 450 feet upstream of Epperly Drive | *1,246
Crutch Creek Tributary C-1:
Approximately 400 feet upstream of confluence with Crutcho Creek C | *1,226
Just downstream of Southeast 59th Street | *1,233
Deep Fork:
Just upstream of Northeast 192nd Street | *902
Approximately 1,800 feet upstream of Northwest 192 Street | *903
Deep Fork Tributary 11:
Approximately 1,300 feet downstream of Northeast 50th Street | *1,089
Just upstream of Northeast 50th Street | *1,104
Deer Creek:
At Waterloo Road | *1,009
Approximately 600 feet downstream of Northwest 164th Street | *1,072
| *1,040
Dorf Creek:
Approximately 4,900 feet upstream of Meridian Avenue | *1,095
Approximately 1,000 feet upstream of Coffee Creek Road | 1,157
North Canadian River:
At intersection of North Sooner Road and Northeast 10th Street | *1,090
North Canadian Tributary 1:
Approximately 1,750 feet downstream of Northeast 10th Street | *1,110
Just downstream of Reno Avenue | *1,114
Approximately 150 feet upstream of Reno Avenue | *1,167
Approximately 200 feet downstream of Triple XXX Road | *1,104
North Canadian Tributary 2 of Tributary 1:
Approximately 1,050 feet downstream of Reno Avenue | *1,110
Just upstream of Reno Road | *1,132
North Canadian Tributary 2 of Tributary 2:
Approximately 250 feet downstream of Southeast 15th Street | *1,118
North Canadian Tributary 3 of Tributary 1:
At confluence with North Canadian Tributary 1 | *1,141
Approximately 3,700 feet upstream of Peebley Road | None
Pond Creek (previously known as Chrisholm Creek Tributary 3):
Approximately 4,000 feet downstream of Danforth Avenue | None
Just downstream of Danforth Avenue | *1,056
Soldier Creek Tributary to Deer Creek:
At confluence with Deer Creek | *1,074
At County Line Road | *1,042
Walnut Creek:
At confluence with Deer Creek | *1,068
Approximately 150 feet downstream of Northwest 164th Street | *1,072
Just upstream of Northwest 164th Street | *1,049
Walnut Creek Tributary:
Approximately 3,400 feet upstream of confluence with Walnut Creek | *1,086
At Northwest 164th Street | *1,092
Just upstream of Northwest 164th Street | *950
West Captain Creek Tributary:
At Oklahoma-Lincoln County Boundary | *1,051
Approximately 2,500 feet upstream of Northeast 93rd Street | *956
| *1,010
West Captain Creek Tributary 2:
At confluence with West Captain Creek Tributary | *989
Approximately 3,000 feet upstream of Northeast 93rd Street | *1,021
West Captain Creek Tributary 3:
At confluence with West Captain Creek Tributary | *1,029
Approximately 2,000 feet upstream of Northeast 93rd Street | *1,069
Whistler Creek:
Approximately 2,900 feet upstream of confluence with Deer Creek |
Approximately 2,800 feet downstream of MacArthur Boulevard |
ADDRESSES
Oklahoma County (Unincorporated Areas)
Maps are available for inspection at the Oklahoma County Engineer Office, 320 Robert A. Kerr Avenue, Suite 101, Oklahoma City, Oklahoma.
City of Edmond
Maps are available for inspection at 100 East First Street, Edmond, Oklahoma.
City of Harrah
Maps are available for inspection at 1900 Church Avenue, Harrah, Oklahoma.
Town of Lake Aluma
Maps are available for inspection at 100 East First Street, Edmond, Oklahoma.
Town of Luther
Maps are available for inspection at 119 South Main Street, Luther, Oklahoma.
City of Midwest City
Maps are available for inspection at 100 North Midwest Boulevard, Midwest City, Oklahoma.
Oklahoma City
Maps are available for inspection at 420 West Main Street, Oklahoma City, Oklahoma.
City of Spencer
Maps are available for inspection at 8200 Northeast 36th Street, Spencer, Oklahoma.
City of the Village
Maps are available for inspection at 2304 Manchester Drive, The Village, Oklahoma.
¹ Oklahoma County (Uninc. Areas), City of Edmond, City of Harrah, Town of Lake Alma, Town of Luther, City of Midwest City, City of Oklahoma City, City of Spencer, City of The Village.

(Catalog of Federal Domestic Assistance No. 83.100, “Flood Insurance.”)
Dated: October 30, 2002.
Anthony S. Lowe,
Administrator, Federal Insurance and Mitigation Administration.

[FR Doc. 02-27966 Filed 11-1-02; 8:45 am]

BILLING CODE 6718-04-P